DEPARTMENT OF ENERGY

Office of Science; Advanced Scientific Computing Advisory Committee; Renewal

AGENCY: Department of Energy.

ACTION: Notice of Renewal.

SUMMARY: Pursuant to section 14(a)(2)(A) of the Federal Advisory Committee Act, and in accordance with section 102-3.65, title 41 of the Code of Federal Regulations, and following consultation with the Committee Management Secretariat, General Services Administration, notice is hereby given that the Advanced Scientific Computing Advisory Committee has been renewed for a two-year period beginning April, 2002. The Committee will provide advice to the Director, Office of Science, on the Advanced Scientific Computing Research Program managed by the Office of Advanced Scientific Computing Research.

The renewal of the Advanced Scientific Computing Advisory Committee has been determined to be essential to the conduct of the Department of Energy business and to be in the public interest in connection with the performance of duties imposed upon the Department of Energy by law. The Committee will operate in accordance with the provisions of the Federal Advisory Committee Act, the Department of Energy Organization Act (Public Law No. 95-91), and rules and regulations issued in implementation of those Acts.

Further information regarding this Advisory Committee may be obtained from Mrs. Rachel Samuel at (202) 586-3279.

Issued in Washington, DC, on April 18, 2002.
James N. Solit,
Advisory Committee Management Officer.

[FR Doc. 02-9950 Filed 4-22-02; 8:45 am]

BILLING CODE 6450-01-P